DEPARTMENT OF AGRICULTURE

Forest Service

Revision of the Land Management Plan for the Francis Marion National Forest

AGENCY: Forest Service, USDA.

ACTION: Notice of approval of the Revised Land Management Plan for the Francis Marion National Forest.

SUMMARY: John Richard “Rick” Lint, the Forest Supervisor for the Francis Marion National Forest, Southern Region, signed the Record of Decision (ROD) for the Revised Land Management Plan (Forest Plan) for the Francis Marion National Forest. The Final ROD documents the rationale for approving the Forest Plan and is consistent with the Reviewing Officers' responses to objections and instructions.

DATES: The Revised Land Managmenent Plan for the Francis Marion National Forest will become effective 30 days after the publication of this notice of approval in the Federal Register (36 CFR 219.17(a)(1)). To view the final ROD, final environmental impact statement (FEIS), the revised land management plan, and other related documents, please visit the Francis Marion National Forest Web site at: https://www.fs.usda.gov/detail/scnfs/landmanagement/planning/?cid=stelprdb5393142.

A legal notice of approval is also being published in the Francis Marion and Sumter National Forests newspaper of record, The State. A copy of this legal notice will be posted on the Web site described above.

FOR FURTHER INFORMATION CONTACT: Further information about the revised land management plan for the Francis Marion Nation Forest can obtained by contacting Mary Morrison, Forest Planner, Francis Marion National Forest at 803-561-4000. Individuals who use telecommunication devices for the deaf (TDD) may call the Federal Information Relay Service (FIRS) at 1-800-877-8339 between 8:00 a.m. and 8:00 p.m. (Eastern time), Monday through Friday. Written requests for information may be sent to Francis Marion and Sumter National Forests, Attn: FM Plan Revision, 4931 Broad River Road, Columbia, SC 29212.

SUPPLEMENTARY INFORMATION: The Francis Marion National Forest covers nearly 260,000 acres in Berkeley and Charleston Counties, South Carolina. The revised land management plan, which was developed pursuant to the 2012 Forest Planning Rule (36 CFR 219), will replace the land management plan approved in 1996. This 2017 land management plan establishes a strong commitment to an all-lands approach and emphasizes the restoration of longleaf pine, maintaining habitats for at-risk plants and animals, and providing social opportunities and economic benefits to both forest visitors and local communities in coastal South Carolina. The plan components were developed using best available scientific information and the consideration of fiscal capability.

A draft record of decision, revised land management plan and final environmental impact statement were released in August 2016, which was subject to a pre-decisional objection period. One objection was received and the two Reviewing Officers responses to the objection issues were signed by the Associate Deputy Chief (as Reviewing Officer for the Chief) and the Regional Forester in December 2016. The instructions from the Reviewing Officers were incorporated into an updated revised land management plan and final environmental impact statement, and these documents were released to the public in January 2017. The changes that were made as a result of the objection resolution include providing additional standards and direction to the revised plan concerning the management of at-risk species, and clarifications on the evaluation of ecological sustainability were added to the final environmental impact statement. The Final Record of Decision to approve the revised land management plan for the Francis Marion National Forest has now been signed, and is available at the Web site described above.

Responsible Official

The responsible official for the revision of the land management plan for the Francis Marion National Forest is John Richard “Rick” Lint, Forest Supervisor, Francis Marion and Sumter National Forests, 4931 Broad River Road, Columbia, SC 29212.

Dated: March 15, 2017.
Jeanne M. Higgins,
Associate Deputy Chief, National Forest System.

[FR Doc. 2017-06387 Filed 3-30-17; 8:45 am]

BILLING CODE 3411-15-P